DEPARTMENT OF ENERGY

Federal Energy Regulatory Commission

[Docket No. RP04-398-002]

East Tennessee Natural Gas LLC; Notice Of Compliance Filing

September 10, 2004.

Take notice that, on September 3, 2004, East Tennessee Natural Gas, LLC (East Tennessee), formerly East Tennessee Natural Gas Company, tendered for filing as part of its FERC Gas Tariff, Third Revised Volume No. 1, Third Revised Sheet No. 21 to become effective prospectively as of the date specified by the Commission in its order accepting this compliance filing without refund or condition.

East Tennessee states that the purpose of the filing is to comply with the Commission's order issued on August 4, 2004 in Docket Nos. CP01-415-016 and RP04-398-000 (August 4 Order). In accordance with this order, East Tennessee is filing a revised tariff sheet reflecting lost-and-unaccounted-for gas percentages for four East Tennessee expansion projects.

East Tennessee states that copies of the filing have been served on all customers of East Tennessee and interested state commissions, as well as on all parties on the official service list in the captioned proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2213 Filed 9-15-04; 8:45 am]

BILLING CODE 6717-01-P